DEPARTMENT OF TRANSPORTATION

[STB Finance Docket No. 34432]

Golden Isles Terminal Railroad, Inc.—Trackage Rights Exemption—CSX Transportation, Inc.

CSX Transportation, Inc. (CSXT), pursuant to a written trackage rights agreement entered into between CSXT and Golden Isles Terminal Railroad, Inc. (GIT), has agreed to grant certain trackage rights to GIT over CSXT's rail line between milepost A489 near Georgia Ports Authority's Garden City Terminal and milepost S500 at or about the entrance to CSXT's Savannah Yard, plus sufficient tail room from the north entrance to Old Savannah Yard, through Loricks Lead, out on Number One Main to milepost A492, and from the south entrance of Old Savannah Yard, through the Blossom signal, out on Mainline to milepost S504 in Chatham County, GA.

The transaction was scheduled to be consummated after November 7, 2003, the effective date of the exemption (7 days after the notice was filed).

The purpose of the trackage is to allow GIT access to the Savannah Yard which it is simultaneously leasing from CSXT, and to provide terminal switching and other services for customers in the Georgia Ports Authority's Garden City Terminal Area.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34432, must be filed with the Surface Transportation Board, 1925 K Street, NW., Washington, DC 20423-0001. In addition, a copy of each pleading must be served on Eric M. Hocky, Gollatz, Griffin & Ewing, P.C, Four Penn Center Plaza, 1600 John F. Kennedy Blvd., Suite 200, Philadelphia, PA 19103-2808.

Board decisions and notices are available on our Web site at “http://www.stb.dot.gov.”

Decided: November, 12, 2003.
By the Board, David M. Konschnik, Director, Office of Proceedings.
Vernon A. Williams,
Secretary.

[FR Doc. 03-28886 Filed 11-19-03; 8:45 am]

BILLING CODE 4915-00-P